DEPARTMENT OF HEALTH AND HUMAN SERVICES

Food and Drug Administration

[Docket No. FDA-2009-D-0260]

Reportable Food Registry; Public Workshops

AGENCY: Food and Drug Administration, HHS.

ACTION: Notice of public workshops.

The Food and Drug Administration (FDA) is announcing three public workshops to discuss the draft guidance FDA issued on June 11, 2009, concerning the Congressionally-mandated Reportable Food Registry (the Registry). The purpose of the public workshop is to explain the purpose of the Registry, how it will work, and the responsibilities of persons required to submit a report regarding instances of reportable food to FDA through the reportable food electronic portal. The role of Federal, State, and local public health officials in voluntarily reporting instances of reportable food to FDA will also be discussed.

Dates, Times, and Locations: See “How to Participate in the Workshops” in the SUPPLEMENTARY INFORMATION section of this document for dates and times of the workshops, closing dates for advance registration, requesting special accommodations due to disability, requesting onsite parking, and other information regarding meeting participation.

Contact Person: For general questions about the workshops, to request onsite parking for the July 23 workshop, or for special accommodations due to a disability, contact Juanita Yates, Center for Food Safety and Applied Nutrition, Food and Drug Administration, 5100 Paint Branch Pkwy., College Park, MD 20740, 301-436-1731, e-mail: juanita.yates@fda.hhs.gov.

SUPPLEMENTARY INFORMATION:

I. How to Participate in the Workshops

Table 1 of this document provides information on participation in the workshops.

Table 1.
| Date | Address | Electronic Address | Other Information
First public workshop | July 23, 2009, from 9 a.m. to noon | Harvey W. Wiley Federal Bldg., Food and Drug Administration, Center for Food Safety and Applied Nutrition, 5100 Paint Branch Pkwy., College Park, MD 20740 (Metro stop: College Park on the Green Line) |  |
Advance registration | by July 17, 2009 | We encourage you to use electronic registration if possible.¹ | http://www.fda.gov/Food/NewsEvents/WorkshopsMeetingsConferences/ click on the link to the Reportable Food Registry Public Workshops | There is no registration fee for the public workshops. Early registration is recommended because seating is limited.
Request special accommodations due to a disability | by July 17, 2009 | See Contact Person |  |
Request onsite parking | by July 20, 2009 | See Contact Person |  |
Second public workshop | August 5, 2009, from 9 a.m. to noon | Hyatt Regency Chicago, 151 East Wacker Dr., Chicago, IL 60601 |  |
Advance registration | by July 27, 2009 | We encourage you to use electronic registration if possible.¹ | http://www.fda.gov/Food/NewsEvents/WorkshopsMeetingsConferences/ click on the link to the Reportable Food Registry Public Workshops | There is no registration fee for the public workshops. Early registration is recommended because seating is limited.
Request special accommodations due to a disability | by July 27, 2009 | See Contact Person |  |
Third public workshop | August 25, 2009, from 9 a.m. to noon | Ronald V. Dellums Federal Bldg., Edward Roybal Auditorium, 1301 Clay St., 3d floor, Oakland, CA 94612 |  |
Advance registration | by August 14, 2009 | We encourage you to use electronic registration if possible.¹ | http://www.fda.gov/Food/NewsEvents/WorkshopsMeetingsConferences/ click on the link to the Reportable Food Registry Public Workshops | There is no registration fee for the public workshops. Early registration is recommended because seating is limited.
Request special accommodations due to a disability | by August 14, 2009 | See Contact Person |  |
¹ You may also register via e-mail, mail, or fax. Please include your name, title, firm name, address, and phone and fax numbers in your registration information and send to: Deborah Harris, EDJ Associates, Inc., 11300 Rockville Pike, suite 1001, Rockville, MD 20852, 240-221-4326, FAX: 301-945-4295, e-mail: fda-CFSAN_Registration@edjassociates.com. Onsite registration will also be available at all workshop sites.

II. Background

In the Federal Register of June 11, 2009 (74 FR 27803), FDA announced the availability of a draft guidance entitled “Guidance for Industry: Questions and Answers Regarding the Reportable Food Registry as Established by the Food and Drug Administration Amendments Act of 2007”. The draft guidance, when finalized, will assist the industry with complying with the Reportable Food Registry requirements prescribed by the Food and Drug Administration Amendments Act of 2007 (FDAAA). FDA also announced a further delay in the implementation of the Registry of FDAAA until September 8, 2009, to consider any comments received on the draft guidance and through the agency's planned outreach initiatives, and to allow for further testing of the electronic portal for reportable foods.

This notice announces three public workshops as part of the agency's planned outreach initiatives regarding the Registry.

III. Transcripts

Please be advised that as soon as a transcript is available, it will be accessible at http://www.regulations.gov. It may be viewed at the Division of Dockets Management (HFA-305), Food and Drug Administration, 5630 Fishers Lane, rm. 1061, Rockville, MD. A transcript will also be available in either hardcopy or on CD-ROM, after submission of a Freedom of Information request. Written requests are to be sent to Division of Freedom of Information (HFI-35), Office of Management Programs, Food and Drug Administration, 5600 Fishers Lane, rm. 6-30, Rockville, MD 20857.

Dated: June 22, 2009.
Jeffrey Shuren,
Associate Commissioner for Policy and Planning.

[FR Doc. E9-15107 Filed 6-25-09; 8:45 am]

BILLING CODE 4160-01-S